DEPARTMENT OF COMMERCE

National Oceanic and Atmospheric Administration

Hydrographic Services Review Panel Meeting

AGENCY: National Ocean Service, National Oceanic and Atmospheric Administration (NOAA), Department of Commerce.

ACTION: Notice of open meeting.

SUMMARY: The Hydrographic Services Review Panel (HSRP) was established by the Secretary of Commerce to advise the Under Secretary of Commerce for Oceans and Atmosphere on matters related to the responsibilities and authorities set forth in section 303 of the Hydrographic Services Improvement Act of 1998, its amendments, and such other appropriate matters that the Under Secretary refers to the Panel for review and advice.

Date and Time: The meeting will be held Thursday, August 18, 2005, from 8 a.m. to 5 p.m., and Friday, August 19, 2005, from 8 a.m. to 4 p.m.

Location: The New England Center, 15 Strafford Avenue, University of New Hampshire (UNH), Durham, New Hampshire 03824; Telephone: 603-862-2801. The times and agenda topics are subject to change. Refer to the Web site listed below for the most up-to-date meeting agenda.

FOR FURTHER INFORMATION CONTACT: Captain Roger L. Parsons, NOAA, Designated Federal Officer (DFO), Office of Coast Survey, National Ocean Service, NOAA (N/CS), 1315 East West Highway, Silver Spring, Maryland 20910; Telephone: 301-713-2770, Fax: 301-713-4019; e-mail: Hydroservices.panel@noaa.gov or visit the NOAA HSRP Web site at http://nauticalcharts.noaa.gov/ocs/hsrp/hsrp.htm.

SUPPLEMENTARY INFORMATION: The meeting will be open to public participation for verbal comments and questions at the end of the day on August 18 and 19, 2005, with a 30-minute period that will be extended if needed. Each individual or group making a verbal presentation will be limited to a total time of five (5) minutes. Written comments (at least 30 copies) should be submitted to the DFO by August 12, 2005. Written comments received by the HSRP DFO after August 12, 2005, will be distributed to the HSRP, but may not be reviewed prior to the meeting date. Approximately 40 seats will be available for the public, on a first-come, first-served basis.

Matters To Be Considered: Topics planned for discussion include: (1) Workgroup Reports and Proposed Recommendations on: NOAA Hydrographic Surveying Cost Analysis, National Ocean Service Mapping and Charting Contracting Policy and Expansion Strategy, NOAA Hydrographic Service User Requirements, NOAA Hydrographic Services' Role in the Integrated Ocean Observing System (IOOS), and Suggested Revisions to the Reauthorization of the Hydrographic Services Improvement Act, (2) Overview and Government Perspectives on NOAA Contracting Strategies, (3) Emerging Technologies and Educational Curriculum in Surveying, Analysis and Data Processing through NOAA's Joint Hydrographic Center at UNH, (4) Progress Report on IOOS Development, (5) NOAA Electronic Navigational Chart Data Encryption Policy and (6) Public Statements.

Dated: July 19, 2005.
Captain Roger L. Parsons,
NOAA, Director, Office of Coast Survey, National Ocean Service, National Oceanic and Atmospheric Administration.

[FR Doc. 05-14650 Filed 7-25-05; 8:45 am]

BILLING CODE 3510-JE-P